DEPARTMENT OF COMMERCE

International Trade Administration

[A-570-007, C-533-909]

Barium Chloride From the People's Republic of China and India: Initiation and Preliminary Results of Changed Circumstances Review and Intent To Revoke the Antidumping Duty and Countervailing Duty Orders

AGENCY: Enforcement and Compliance, International Trade Administration, Department of Commerce.

SUMMARY: Based on a request from Honeywell International Inc. (Honeywell), the U.S. Department of Commerce (Commerce) is initiating and issuing preliminary results for changed circumstances reviews (CCRs) of the antidumping duty (AD) order on barium chloride from the People's Republic of China (China) and the countervailing duty (CVD) order on barium chloride from India. We preliminarily determine that the AD order on barium chloride from China and the CVD order on barium chloride from India should be revoked, in their entirety. Interested parties are invited to comment on these preliminary results.

DATES: Applicable September 18, 2024.

FOR FURTHER INFORMATION CONTACT: Sun Cho, AD/CVD Operations, Office V (China), and Harrison Tanchuck, Office VI, Enforcement and Compliance (India), International Trade Administration, U.S. Department of Commerce, 1401 Constitution Avenue NW, Washington, DC 20230; telephone: (202) 482-6458 and (202) 482-7421, respectively.

SUPPLEMENTARY INFORMATION:

Background

On October 17, 1984, Commerce issued the AD order on barium chloride from China, and on March 7, 2023, issued the CVD order on barium chloride from India.¹ On August 6 and September 5, 2024, Honeywell, an importer of barium chloride from China and India, requested that Commerce conduct expedited CCRs of the AD Order and the CVD Order, respectively, pursuant to section 751(b)(1)(A) of the Tariff Act of 1930, as amended (the Act), and 19 CFR 351.216(b).² Honeywell stated that it qualifies as an interested party pursuant to section 771(9)(A) of the Act and 19 CFR 351.102(b)(29)(ii) as a U.S. importer of barium chloride.³ Honeywell submitted a letter from Chemical Products Corporation (CPC), the only domestic producer of the subject merchandise and the petitioner of the underlying Orders, stating that it is ceasing production of the subject merchandise in the United States and has “no objection to Honeywell's changed circumstances review request.” ⁴ In its requests, Honeywell addressed the conditions under which Commerce may revoke an order in whole or in part pursuant to 19 CFR 351.222(g).

¹ See Antidumping Duty Order; Barium Chloride from the People's Republic of China, 49 FR 40635 (October 17, 1984) (AD Order); and Barium Chloride from India: Countervailing Duty Order, 88 FR 14120 (March 7, 2023) (CVD Order) (collectively, Orders).

² See Honeywell's Letters, “Barium Chloride from the People's Republic of China: Changed Circumstances Review Request,” dated August 6, 2024 (AD CCR Request); and “Barium Chloride from India: Changed Circumstances Review Request,” dated September 5, 2024 (CVD CCR Request).

³ See AD CCR Request at 2; see also CVD CCR request at 2.

⁴ See AD CCR Request at 3 and Exhibit 1; see also CVD CCR request at 5 and Exhibit 4.

Scope of the Orders

The merchandise covered by the Orders is barium chloride, a chemical compound having the formulas BaC12 or BaC12-2H20, currently classifiable under subheading 2827.39.4500 of the Harmonized Tariff Schedule of the United States (HTSUS).⁵ Although the HTSUS subheading is provided for convenience and customs purposes, the written description of the scope of these Orders is dispositive.

⁵ The scope reflects the HTSUS subheading currently in effect.

Initiation of CCRs

Section 751(b)(1) of the Act states that Commerce shall conduct a CCR upon receipt of a request from an interested party that shows changed circumstances sufficient to warrant a review of the order. Section 751(d)(1) of the Act and 19 CFR 351.222(g)(1)(i) provide that Commerce may revoke an order (in whole or in part) if it determines that producers accounting for substantially all of the production of the domestic like product have expressed a lack of interest in the order, in whole or in part.⁶ Further, 19 CFR 351.222(g)(2) provides that Commerce will conduct a CCR under 19 CFR 351.216, and may revoke an order, in whole or in part, if it determines that revocation is warranted.

⁶ See section 782(h) of the Act.

In the event that Commerce determines that “substantially all” domestic producers have expressed a lack of interest in an order, both the Act and Commerce's regulations grant Commerce the authority to revoke the order.⁷ Commerce has interpreted “substantially all” to represent producers accounting for at least 85 percent of U.S. production of the domestic like product.⁸ Honeywell's requests indicated that CPC is the sole producer of the domestic like product and, therefore, accounts for at least 85 percent of domestic production.⁹ In accordance with section 751(b)(1) of the Act, 19 CFR 351.216(d), 19 CFR 351.221(c)(3), and 19 CFR 351.222(g), we are initiating these CCRs.

⁷ Id.; see also 19 CFR 351.222(g).

⁸ See, e.g., Certain Cased Pencils from the People's Republic of China: Initiation and Preliminary Results of Antidumping Duty Changed Circumstances Review, and Intent to Revoke Order in Part, 77 FR 42276 (July 18, 2012), unchanged in Certain Cased Pencils from the People's Republic of China: Final Results of Antidumping Duty Changed Circumstances Review, and Determination To Revoke Order, in Part, 77 FR 53176 (August 31, 2012).

⁹ See AD CCR Request at 2; see also CVD CCR Request at 2-3.

Section 751(b)(4)(B) of the Act and 19 CFR 351.216(c) state that, “in the absence of good cause shown,” Commerce may not review a final determination less than 24 months after the date of publication of the notice of final determination or notice of suspension of an investigation. The final determination in the CVD investigation of barium chloride from India was published on January 6, 2023.¹⁰ CPC has ceased production of the subject merchandise in the United States and has indicated that it has no interest in the Orders; we find that these facts constitute “good cause” for the conduct of the CCR with respect to the CVD Order.¹¹

¹⁰ See Barium Chloride from India: Final Affirmative Countervailing Duty Determination, 88 FR 1044 (January 6, 2023).

¹¹ See 19 CFR 351.216(d); see also Carbon and Certain Alloy Steel Wire Rod from Canada: Initiation of Countervailing Duty Changed Circumstances Review, 68 FR 62282, 62283-84 (November 3. 2003) (that “no further interest . . . in continuing the order . . . serves as good cause” sufficient to review a determination made less than 24 months after the date of publication an order).

Preliminary Results of CCRs

If Commerce concludes that expedited action is warranted, it may concurrently publish the notice of initiation and preliminary results of a CCR.¹² Commerce has combined the notice of initiation and preliminary results in CCRs when sufficient documentation has been provided supporting the request to make a preliminary determination.¹³

¹² See 19 CFR 351.221(c)(3)(ii).

¹³ See, e.g., Multilayered Wood Flooring from the People's Republic of China: Initiation and Preliminary Results of Antidumping and Countervailing Duty Changed Circumstances Reviews, 82 FR 9561 (February 7, 2017), unchanged in Multilayered Wood Flooring from the People's Republic of China: Final Results of Changed Circumstances Reviews, 82 FR 14691 (March 22, 2017).

In this instance, we determine that there is sufficient information on the record to support preliminary findings of changed circumstances.¹⁴ Accordingly, we find that expedited action is warranted, and we are combining the notice of initiation and the notice of preliminary results, in accordance with 19 CFR 351.221(c)(3)(ii).

¹⁴ See CCR Request at 4.

In accordance with 19 CFR 351.222(g), Commerce preliminarily determines that there is a reasonable basis to believe that changed circumstances exist sufficient to warrant revocation of the Orders. Therefore, Commerce is notifying the public of its preliminary intent to revoke the Orders in whole.

Public Comment

Interested parties may submit case briefs not later than 14 days after the date of publication of this notice.¹⁵ Rebuttal briefs, limited to issues raised in the case briefs, may be filed no later than three days after the due date for case briefs.¹⁶ Interested parties who submit case briefs or rebuttal briefs in this proceeding must submit: (1) a table of contents listing each issue; and (2) a table of authorities.¹⁷ Furthermore, any comments submitted by parties must be submitted to the records of both the AD and the CVD CCRs.

¹⁵ Commerce is exercising its discretion under 19 CFR 351.309(c)(1)(ii) to alter the time limit for the filing of case briefs.

¹⁶ Id.

¹⁷ See 19 CFR 351.309(c)(2) and (d)(2).

As provided under 19 CFR 351.309(c)(2) and (d)(2), in prior proceedings we have encouraged interested parties to provide an executive summary of their briefs that should be limited to five pages total, including footnotes. In these CCRs, we instead request that interested parties provide at the beginning of their briefs a public, executive summary for each issue raised in their briefs.¹⁸ Further, we request that interested parties limit their public executive summary of each issue to no more than 450 words, not including citations. We intend to use the executive summaries as the basis of the comment summaries included in the Issues and Decision Memorandum that will accompany the final results of these CCRs. We request that interested parties include footnotes for relevant citations in the public executive summary of each issue. Note that Commerce has amended certain of its requirements pertaining to the service of documents in 19 CFR 351.303(f).¹⁹

¹⁸ We use the term “issue” here to describe an argument that Commerce would normally address in a comment of the Issues and Decision Memorandum.

¹⁹ See Administrative Protective Order, Service, and Other Procedures in Antidumping and Countervailing Duty Proceedings, 88 FR 67069, 67077 (September 29, 2023).

All submissions, with limited exceptions, must be filed electronically using Enforcement and Compliance's Antidumping and Countervailing Duty Centralized Electronic Service System (ACCESS). ACCESS is available to registered users at https://access.trade.gov. An electronically filed document must be received successfully in its entirety by ACCESS by 5:00 p.m. Eastern Time on the day on which it is due.

Pursuant to 19 CFR 351.310(c), any interested party may request a hearing within 14 days of publication of this notice in the Federal Register.²⁰ Hearing requests should contain the following information: (1) the party's name, address, and telephone number; (2) the number of participants; and (3) a list of the issues to be discussed. Oral presentations at the hearing will be limited to issues raised in the briefs.²¹ If a request for a hearing is made, Commerce intends to hold the hearing at a time and date to be determined. Parties should confirm the date and the time of the hearing two days before the scheduled date.

²⁰ Commerce is exercising its discretion under 19 CFR 351.310(c) to alter the time limit for requesting a hearing.

²¹ See 19 CFR 351.310(c).

Final Results of CCRs

Unless extended, consistent with 19 CFR 351.216(e), Commerce intends to issue the final results of these CCRs no later than 270 days after the date on which this review was initiated, or within 45 days of publication of these preliminary results if all parties agree to the preliminary findings.

If we make a final determination to revoke the Orders, we will instruct U.S. Customs and Border Protection (CBP) to discontinue the suspension of liquidation and the collection of cash deposits of estimated antidumping duties on entries of barium chloride from China and estimated countervailing duties on entries of barium chloride from India, to liquidate all unliquidated entries that were entered on or after the day following the last day of the period covered by the most recently completed administrative review of the Orders, and are not already subject to automatic liquidation instructions, without regard to antidumping duties or countervailing duties, as appropriate, and to refund all antidumping duty and countervailing duty cash deposits on all such merchandise, with applicable interest.

Notification to Interested Parties

We are issuing and publishing this initiation and preliminary results notice in accordance with section 751(b)(1) of the Act, 19 CFR 351.216, 19 CFR 351.221(b) and (c)(3), and 19 CFR 351.222(f)(2)(iv).

Dated: September 11, 2024.
Ryan Majerus,
Deputy Assistant Secretary for Policy and Negotiations, performing the non-exclusive functions and duties of the Assistant Secretary for Enforcement and Compliance.

[FR Doc. 2024-21224 Filed 9-17-24; 8:45 am]

BILLING CODE 3510-DS-P